Title 3—

The President

Proclamation 9045 of October 23, 2013

United Nations Day, 2013

By the President of the United States of America

A Proclamation

In 1945, after two world wars that showed the horrific lethality of modern conflict, 51 member states came together to create the United Nations, a bold new organization that sought to build a lasting peace for the generations to follow. Today, 68 years after the adoption of the United Nations Charter, we mark United Nations Day by reaffirming our commitment to its purposes and principles. We celebrate the organization's challenging and often unheralded work of forging a world in which every man, woman, and child can live in freedom, dignity, and peace.

With the aim of sparing their children and grandchildren from the ravages of war, the members of the United Nations committed “to unite our strength to maintain international peace and security.” In the nearly seven decades since they adopted these words in the United Nations Charter, the global threats to international peace and security have changed, but the need for international cooperation has only increased. While the United Nations was founded after a period of cataclysmic war among states, today many of the principal challenges to international peace and security are rooted in the need to prevent or address unconscionable slaughter and violence within states. As the United States works to address challenges old and new, we will continue our close cooperation with partners across the globe, including at the United Nations. And recognizing that the path to conflict often begins with the denial of basic human dignity, we remain committed to realizing another fundamental principle set forth in the Charter—that no one should be denied the fundamental freedoms that are their birthright.

As we mark the founding of a body built to pursue peace in an imperfect world, let us reaffirm that the values set forth in its Charter guide us still. They remind us that leaders and citizens alike, in the United States and around the world, will be judged by whether we contributed to a world that is more peaceful, just, and free. Let us honor the men and women of the United Nations itself, who work in countries across the globe, often unseen and uncelebrated, to improve the lives of the world's most vulnerable people. May we stand firm in our resolve to give voice to the voiceless and to turn swords into plowshares. And may we never lose sight of the essential truth that we live in a world where our fates are bound together as a community of nations, strengthened by our differences and united by our shared hopes for the future.

NOW, THEREFORE, I, BARACK OBAMA, President of the United States of America, by virtue of the authority vested in me by the Constitution and the laws of the United States, do hereby proclaim October 24, 2013, as United Nations Day. I urge the Governors of the 50 States, and the officials of all other areas under the flag of the United States, to observe United Nations Day with appropriate ceremonies and activities.

IN WITNESS WHEREOF, I have hereunto set my hand this twenty-third day of October, in the year of our Lord two thousand thirteen, and of the Independence of the United States of America the two hundred and thirty-eighth.

[FR Doc. 2013-25664

Filed 10-25-13; 11:15 am]

Billing code 3295-F4